OFFICE OF PERSONNEL MANAGEMENT

Submission for OMB Review; Comment Request for Reclearance of an Expiring Information Collection Declaration for Federal Employment Optional Form 306, OMB No. 3206-0182

AGENCY: Office of Personnel Management.

ACTION: Notice.

SUMMARY: In accordance with the Paperwork Reduction Act of 1995 (Pub. L. 104-13), this notice announces that the Office of Personnel Management submitted to the Office of Management and Budget a request for clearance of an expiring information collection. The OF 306, Declaration for Federal Employment is completed by applicants who are under consideration for Federal employment.

It is estimated that 474,000 individuals will respond annually. Each form takes approximately 15 minutes to complete. The annual estimated burden is 118,500 hours.

For copies of this proposal, contact Mary Beth Smith-Toomey on (202) 606-8358, Fax (202) 418-3251 or e-mail to mbtoomey@opm.gov. Please be sure to include a mailing address with your request.

DATES: Comments on this proposal should be received within 30 calendar days from the date of this publication.

ADDRESSES: Send or deliver comments to:

Kathy Dillaman, Deputy Associate Director, Center for Federal Investigative Services, U.S. Office of Personnel Management, 1900 E Street, NW., Room 5416, Washington, DC 20415;

and Joseph F. Lackey, OPM Desk Officer, Office of Information & Regulatory Affairs, Office of Management and Budget, New Executive Office Building, NW., Room 10235, Washington, DC 20503.

FOR INFORMATION REGARDING ADMINISTRATIVE COORDINATION CONTACT: Susan Orndorff, Management Assistant, Customer Services Group, Center for Federal Investigative Services, Office of Personnel Management, Washington, DC 20415, (202) 606-2139.

U.S. Office of Personnel Management.
Kay Coles James,
Director.

[FR Doc. 04-10285 Filed 5-5-04; 8:45 am]

BILLING CODE 6325-38-P